DEPARTMENT OF COMMERCE

National Oceanic and Atmospheric Administration

[RTID 0648-XA080]

Marine Mammals and Endangered Species

AGENCY: National Marine Fisheries Service (NMFS), National Oceanic and Atmospheric Administration (NOAA), Commerce.

ACTION: Notice; issuance of permits.

SUMMARY: Notice is hereby given that a permit, has been issued to the following entity under the Marine Mammal Protection Act (MMPA).

ADDRESSES: The permit and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Hapeman (Permit No. 23577); at (301) 427-8401.

SUPPLEMENTARY INFORMATION: Notice was published in the Federal Register on the date listed below that requests for a permit had been submitted by the below-named applicant. To locate the Federal Register notice that announced our receipt of the application and a complete description of the activities, go to www.federalregister.gov and search on the permit number provided in Table 1 below.

Table 1—Issued Permit
Permit No. | RIN/RTID | Applicant | Previous Federal Register notice | Permit or amendment issuance date
23577 | 0648-XR076 | BBC Studios Ltd., Natural History Unit Productions, Broadcasting House, Whiteladies Road, Bristol, BS8 2LR, UK, (Responsible Party: Rowan Crawford) | 84 FR 70500; December 23, 2019 | 2/3/2020

In compliance with the National Environmental Policy Act of 1969 (42 U.S.C. 4321 et seq.), a final determination has been made that the activities proposed are categorically excluded from the requirement to prepare an environmental assessment or environmental impact statement.

Authority: The requested permit has been issued under the Marine Mammal Protection Act of 1972, as amended (16 U.S.C. 1361 et seq.), the regulations governing the taking and importing of marine mammals (50 CFR part 216).

Dated: March 16, 2020.
Amy Sloan,
Acting Chief, Permits and Conservation Division, Office of Protected Resources, National Marine Fisheries Service.

[FR Doc. 2020-05831 Filed 3-19-20; 8:45 am]

BILLING CODE 3510-22-P